DEPARTMENT OF THE INTERIOR

Bureau of Land Management

[LLMT001000.L16100000.DP0000.LXSS065E0000 MO# 4500079413]

Notice of Availability of the Proposed Resource Management Plan and Final Environmental Impact Statement for the Billings and Pompeys Pillar National Monument Resource Management Plan Revision, Billings Field Office, Montana

AGENCY: Bureau of Land Management, Interior.

ACTION: Notice of availability.

SUMMARY: In accordance with the National Environmental Policy Act of 1969 (NEPA), as amended, and the Federal Land Policy and Management Act of 1976 (FLPMA), as amended, the Bureau of Land Management (BLM) has prepared a Proposed Resource Management Plan (RMP) and Final Environmental Impact Statement (EIS) for the Billings planning area, including Pompeys Pillar National Monument, and by this notice is announcing its availability.

DATES: The BLM planning regulations state that any person who meets the conditions as described in the regulations may protest the BLM's Proposed RMP/Final EIS. A person who meets the conditions and files a protest must file the protest within 30 days of the date that the Environmental Protection Agency publishes its notice of availability in the Federal Register.

ADDRESSES: Copies of the Billings and Pompeys Pillar National Monument Proposed RMP/Final EIS have been sent to affected Federal, State, and local government agencies, tribal governments, and to other stakeholders and members of the public. Copies of the Proposed RMP/Final EIS are available for public inspection at the following locations:

• BLM, Montana State Office and Billings Field Office, 5001 Southgate Drive, Billings, MT 59101.

Interested persons may also review the Proposed RMP/Final EIS on the Internet at http://on.doi.gov/1EJBdaE.

All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Carolyn Sherve-Bybee, Billings and Pompeys Pillar National Monument RMP Team Leader, telephone: 406-896-5234; address: 5001 Southgate Drive, Billings, MT 59101; email: billings_pompeyspillar_rmp@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The planning area includes lands within the BLM Billings Field Office's administrative boundaries, including Carbon, Golden Valley, Musselshell, Stillwater, Sweet Grass, Wheatland, and Yellowstone Counties in Montana, and portions of Big Horn County, Montana and Big Horn County, Wyoming. The planning area includes all lands, regardless of jurisdiction, totaling approximately 10.37 million acres; however, the BLM will only make decisions on lands that fall under the BLM's jurisdiction. The BLM decision area is comprised of approximately 434,154 acres of the surface estate in the planning area and 889,479 acres of Federal mineral estate. The revised RMP will replace the 1984 Billings RMP, as amended. The Draft RMP/EIS was made available for public review for a 90-day period on March 29, 2013 (78 FR 19291). The Draft RMP/EIS included a series of management actions, within four management alternatives, designed to address management challenges and issues raised during scoping. These included, but were not limited to, trails and travel management, wildlife habitat management including that of the Greater Sage-Grouse, energy development (coal and oil and gas), livestock grazing, recreation, lands with wilderness characteristics, special management areas including Areas of Critical Environmental Concern (ACEC) and the Pryor Mountain Wild Horse Range, and management of the cultural and historic resources at Pompeys Pillar National Monument. In accordance with 43 CFR 1610.7-2(b), the Notice of Availability for the Draft RMP/EIS announced a concurrent public comment period on proposed ACECs.

Comments on the Draft RMP/Draft EIS received from the public and internal BLM review were considered and incorporated as appropriate into the Proposed RMP/Final EIS which analyzes four alternatives:

1. Alternative A (No Action): Continues existing management;

2. Alternative B: Emphasizes conservation of natural and cultural resources while providing for compatible development and use;

3. Alternative C: Emphasizes resource development and use while protecting natural and cultural resources; and

4. Alternative D (Proposed): Provides development opportunities and conserves sensitive resources.

As modified, Alternative D is now presented as the Proposed RMP. The Proposed RMP would provide comprehensive, long-range decisions for the use and management of resources in the planning area administered by the BLM and focus on the principles of multiple use and sustained yield. Alternative D allows resource use if the activity can be conducted in a manner that conserves physical, biological, and heritage and visual resources. Alternative D allocates land as Special Recreation Management Areas (nine), Extensive Recreation Management Areas (two), lands with wilderness characteristics (nine), Travel Management Areas (eleven), and Areas of Critical Environmental Concern (eleven) and emphasizes moderate constraints on resource uses to reduce impacts to resource values.

Under Alternative D, the BLM manages the suitable segments of Crooked Creek to protect and/or enhance its free-flowing condition, outstandingly remarkable values, and tentative classification until such time that Congress designates the river or releases the river for other uses. If released by Congress for other uses, the river segment would be managed to retain its free-flowing condition and identified outstandingly remarkable values.

The Proposed Plan includes ACEC designations for the following areas:

Pompeys Pillar National Monument ACEC (432 acres).

• Value: Cultural and historic resources. The National Monument (51 acres) and National Historic Landmark (6 acres) are included within the 432 acre ACEC.

• Limitations on the Following Uses: Eighty-three acres designated for rights-of-way (ROW) exclusion and 349 acres for ROW avoidance; land disposals prohibited; OHV use limited to designated roads and trails; 381 acres managed as VRM Class II and 51 acres as VRM Class III; 51 acres closed to fluid mineral leasing and manage 381 acres No Surface Occupancy for fluid mineral leasing; continue the withdrawal for locatable and solid leasable minerals (subject to valid existing rights) on 51 acres and recommend 381 acres for withdrawal from mineral entry; close 432 acres to mineral material sales, close the 432 acres to commercial renewable energy facilities and development; allow livestock grazing temporarily and only as a management tool; close 432 acres to target shooting (hunting allowed on 375 acres); and prohibit scattering of cremains.

Bridger Fossil Area ACEC (577 acres).

• Values: Paleontological resources. The Bridger Fossil Area National Natural Landmark (161 acres) is located entirely within this ACEC.

• Limitations on the Following Uses: Proposed management would prohibit all surface-disturbing activities not compatible with the area's values including closing the area to all forms of mineral leasing and development, including solid minerals; recommending withdrawal from locatable mineral entry, excluding ROWs, and prohibiting renewable energy development. The ACEC managed as a VRM Class II area. Travel limited to designated roads and trails.

Castle Butte ACEC (184 acres).

• Values: Cultural resources.

• Limitations on the Following Uses: Proposed management would prohibit renewable energy development, target shooting (for resource concerns), and the scattering of cremains. ROW avoidance area and a VRM Class II area. Animal trapping/traplines prohibited. Travel limited to designated routes.

East Pryor ACEC (11,122 acres).

• Values: Wild horse and wildlife habitat, historical, cultural, and paleontological resources, and special status plant species. The Crooked Creek Natural Area (2,101 acres) and the Crooked Creek National Natural Landmark (300 acres) are located within the ACEC. The 2,101 acres of the Crooked Creek Natural Area are currently withdrawn from mineral entry. The Pryor Mountain Wild Horse Range (PMWHR) boundaries overlap most of the ACEC.

• Limitations on the Following Uses: Proposed management would prohibit land disposals, close the area to oil and gas and solid mineral leasing, recommend withdrawal from mineral entry, prohibit renewable energy development and geophysical exploration, close the portions of the ACEC within the PMWHR to livestock grazing except for Bad Pass Trail Allotment (grazing available outside the PMWHR), prohibit target shooting for public safety reasons between Memorial Day weekend and Labor Day weekend in T. 8 S., R. 28 E, (allowed in remainder of ACEC), prohibit the scattering of cremains; motorized vehicle use, including snowmobiles, is limited to designated routes; and limit the issuance of Special Recreation Use Permits (SRPs) and Letters of Authorization to existing SRPs and Letters of Authorization.

Four Dances Natural Area ACEC (784 acres).

• Values: Cultural and historic resources, scenic values, wildlife resources, and presence of a natural hazard.

• Limitations on the Following Uses: This ACEC would be an avoidance area for ROWs; it is currently withdrawn from mineral entry; land disposals, cremains scattering, animal trapping/traplines, and renewable energy development would be prohibited; the ACEC is closed to motorized use; livestock grazing only authorized to meet other resource objectives consistent with ACEC designation; no discharging of firearms within the ACEC; archery hunting allowed if deemed necessary by Montana Fish, Wildlife, and Parks (authorization from BLM required); SPRs initially limited to existing SRPs; closed to horseback riding, hang gliding, rock climbing, and paint ball activities; this is a day use only area and managed as a VRM Class II area.

Grove Creek ACEC (8,251 acres).

• Values: Significant archaeological and traditional cultural values and special status plants.

• Limitations on the Following Uses: The ACEC would be managed as a ROW avoidance area and a VRM Class II area; no land disposals permitted; fluid mineral leasing permitted with a No Surface Occupancy (NSO); locatable minerals and solid leasable minerals recommended for withdrawal from mineral entry; and the scattering of cremains prohibited. Travel limited to designated routes.

Meeteetse Spires ACEC (1,523 acres).

• Values: Scenic values and special status plants.

• Limitations on the Following Uses: The ACEC would be managed as a ROW exclusion area and managed as a VRM Class II area; no land disposals permitted; travel limited to designated routes; plant collecting only allowed for scientific use and range studies only (no collection of special status plant species without a permit); 965 acres closed (no lease) to fluid mineral leasing and recommended for withdrawal to mineral entry; livestock grazing permitted (except for sheep) on 965 acres; scattering of cremains and renewable energy development not permitted.

Petroglyph Canyon ACEC (240 acres).

• Values: Unique cultural resources.

• Limitations on the Following Uses: This ACEC would be managed as a ROW exclusion area, no land disposals permitted; travel limited to designated routes; closed (no lease) to fluid mineral leasing, continue the 240 acre mineral entry withdrawal; closed to renewable energy development; closed to animal trapping/traplines; target shooting not permitted due to resource concerns; and scattering of cremains not permitted.

Pryor Foothills Research Natural Area (RNA) ACEC (2,606 acres).

• Values: Special status plants and rare plant communities and significant historic and cultural values.

• Limitations on the Following Uses: The ACEC would be managed as a ROW avoidance area; no land disposals permitted; travel limited to designated routes; VRM Class II area; plant collecting allowed for scientific use or range studies only (no collection of special status plant species without a permit); the ACEC managed as a NSO within ¼ mile buffer on known sensitive plant sites and Controlled Surface Use (area must be inventoried for special status plants prior to surface disturbing activities) (Note: all lands in this ACEC east of Crooked Creek Road (839 acres) are within an Lands with Wilderness Characteristics unit which is No Lease to fluid mineral leasing); the ACEC is recommended for withdrawal from mineral entry; closed to solid leasable minerals and mineral material sales; and renewable energy development not permitted;

Stark Site ACEC (799 acres).

• Values: Unique cultural resources.

• Limitations on the Following Uses: The ACEC would be managed as a ROW avoidance area; motorized travel limited to designated routes; managed as a VRM Class II area, recommended for withdrawal from mineral entry; fluid mineral leasing leased with a NSO stipulation, Open to solid mineral leasing with NSO; closed to mineral material sales; closed to target shooting due to resource concerns; and scattering of cremains not permitted.

Weatherman Draw ACEC (12,277 acres).

• Values: Unique cultural values.

• Limitations on the Following Uses: The ACEC would be managed as a ROW exclusion area on 4,986 acres and a ROW avoidance area on 7,291 acres; no land disposals permitted; travel limited to designated routes; the ACEC managed as a VRM Class II area; 4,986 acres closed (no lease) to fluid mineral leasing and 7,291 acres available to fluid mineral leasing with a NSO stipulation; 600 acres are currently withdrawn from mineral entry and 4,386 are recommended for withdrawal from mineral entry; 4,986 acres closed to development of solid leasable minerals and 7,291 acres are open to solid leasable mineral development with NSO; 4,986 acres closed to mineral material sales; the ACEC closed to renewable energy development; animal trapping/traplines prohibited on 4,986 acres; target shooting prohibited in the ACEC due to resource concerns; and the scattering of cremains prohibited.

The Proposed RMP does not adopt the following ACEC: Greater Sage-Grouse Habitat ACEC.

The Proposed RMP is also recommending the following river segments (3.15 miles) as suitable to protect their outstandingly remarkable values, free-flowing nature, and classification. The following segments would be recommended as suitable for inclusion in the National Wild and Scenic River System:

• Crooked Creek (above fish barrier—1.59 miles) tentative management class would be Wild.

• Crooked Creek (below fish barrier—1.56 miles) tentative management class would be Scenic.

Wild and Scenic River eligible and suitable segments (14.08 miles total) would be managed as NSO for oil and gas leasing, exploration, and development within ½ mile of the eligible and suitable river segments. The WSR eligible and suitable segments would be managed as exclusion areas for wind energy development.

The Proposed RMP/Final EIS is one of a total of 15 separate EISs that make up the BLM and Forest Service National Greater Sage-Grouse Planning Strategy. Greater-Sage Grouse habitat within the planning area consists of:

• Priority Habitat Management Area (PHMA)—Areas identified as having the highest conservation value for maintaining sustainable greater sage-grouse populations; include breeding, late brood-rearing, and winter concentration areas.

• General Habitat Management Area (GHMA)—Areas of seasonal or year-round habitat outside of PHMA.

Alternative D supports management of greater sage-grouse seasonal habitats and maintaining habitat connectivity to achieve population objectives. Alternative D would limit or eliminate new surface disturbance in PHMA, while minimizing disturbance in GHMA.

The BLM and Forest Service, via the Western Association of Fish and Wildlife Agencies (WAFWA) Management Zone Greater Sage-Grouse Conservation Team, will develop a Regional Mitigation Strategy to guide the application of the mitigation hierarchy to address impacts within that Zone. The Regional Mitigation Strategy should consider any State-level greater sage-grouse mitigation guidance that is consistent with the requirements. The Regional Mitigation Strategy will be developed in a transparent manner, based on the best science available and standardized metrics. Development of additional regional mitigation strategies for other resource programs may occur for implementation level decisions.

Instructions for filing a protest with the Director of the BLM regarding the Proposed RMP/Final EIS may be found in the “Dear Reader” Letter of the Billings and Pompeys Pillar National Monument Proposed RMP/Final EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Before including your address, phone number, email address, or other personal identifying information in your protest, you should be aware that your entire protest—including your personal identifying information—may be made publicly available at any time. While you may ask us in your protest to withhold your personal identifying information from public review, we cannot guarantee that we will be able to do so.

Authority: 40 CFR 1506.6, 40 CFR 1506.10, 43 CFR 1610.2, 43 CFR 1610.5

Jamie E. Connell,
State Director, Montana/Dakotas.

[FR Doc. 2015-12937 Filed 5-28-15; 8:45 am]

BILLING CODE 4310-DN-P